DEPARTMENT OF ENERGY

Federal Energy Regulatory Commission

Combined Notice of Filings

Take notice that the Commission has received the following Natural Gas Pipeline Rate and Refund Report filings:

Filings in Existing Proceedings

Docket Numbers: RP01-382-032.

Applicants: Northern Natural Gas Company.

Description: Northern Natural Gas Company submits Carlton Reimbursement Report.

Filed Date: 6/1/22.

Accession Number: 20220601-5353.

Comment Date: 5 p.m. ET 6/13/22.

Docket Numbers: RP19-262-002.

Applicants: Hardy Storage Company, LLC.

Description: Compliance filing: Amended Stipulation and Settlement Agreement to be effective N/A.

Filed Date: 6/1/22.

Accession Number: 20220601-5178.

Comment Date: 5 p.m. ET 6/13/22.

Any person desiring to protest in any the above proceedings must file in accordance with Rule 211 of the Commission's Regulations (18 CFR 385.211) on or before 5:00 p.m. Eastern time on the specified comment date.

Filings Instituting Proceedings

Docket Numbers: RP22-960-000.

Applicants: Eastern Shore Natural Gas Company.

Description: § 4(d) Rate Filing: Fuel Retention & Cash Out Adjustment 2022 to be effective 7/1/2022.

Filed Date: 6/1/22.

Accession Number: 20220601-5065.

Comment Date: 5 p.m. ET 6/13/22.

Docket Numbers: RP22-961-000.

Applicants: Columbia Gulf Transmission, LLC.

Description: § 4(d) Rate Filing: Negotiated Rate and Non-Conforming Agreement Housekeeping to be effective 7/1/2022.

Filed Date: 6/1/22.

Accession Number: 20220601-5073.

Comment Date: 5 p.m. ET 6/13/22.

Docket Numbers: RP22-962-000.

Applicants: Gulf South Pipeline Company, LLC.

Description: § 4(d) Rate Filing: Cap Rel Neg Rate Agmt (Osaka 46428 to TotalEnergies 55364) to be effective 6/1/2022.

Filed Date: 6/1/22.

Accession Number: 20220601-5080.

Comment Date: 5 p.m. ET 6/13/22.

Docket Numbers: RP22-963-000.

Applicants: TransCameron Pipeline, LLC.

Description: § 4(d) Rate Filing: Normal filing 2022 June to be effective 6/1/2022.

Filed Date: 6/1/22.

Accession Number: 20220601-5210.

Comment Date: 5 p.m. ET 6/13/22.

Docket Numbers: RP22-964-000.

Applicants: El Paso Natural Gas Company, L.L.C.

Description: § 4(d) Rate Filing: Negotiated Rate Agreement Update (Conoco June 2, 2022) to be effective 6/2/2022.

Filed Date: 6/1/22.

Accession Number: 20220601-5215.

Comment Date: 5 p.m. ET 6/13/22.

Docket Numbers: RP22-965-000.

Applicants: TransCameron Pipeline, LLC.

Description: § 4(d) Rate Filing: Normal filing 2022 July to be effective 7/1/2022.

Filed Date: 6/1/22.

Accession Number: 20220601-5223.

Comment Date: 5 p.m. ET 6/13/22.

Docket Numbers: RP22-966-000.

Applicants: Equitrans, L.P.

Description: § 4(d) Rate Filing: Negotiated Rate Capacity Release Agreements—6/1/2022 to be effective 6/1/2022.

Filed Date: 6/1/22.

Accession Number: 20220601-5261.

Comment Date: 5 p.m. ET 6/13/22.

Docket Numbers: RP22-967-000.

Applicants: Alliance Pipeline L.P.

Description: § 4(d) Rate Filing: Negotiated Rates—Various June 1 2022 Capacity Releases to be effective 6/1/2022.

Filed Date: 6/1/22.

Accession Number: 20220601-5301.

Comment Date: 5 p.m. ET 6/13/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 2, 2022.
Debbie-Anne A. Reese,
Deputy Secretary.

[FR Doc. 2022-12330 Filed 6-7-22; 8:45 am]

BILLING CODE 6717-01-P